DEPARTMENT OF COMMERCE

National Oceanic and Atmospheric Administration

[I.D. 032201A]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Joint Groundfish Oversight Committee and Advisory Panel and Habitat Committee in April, 2001 to consider actions affecting New England fisheries in the exclusive economic zone (EEZ). Recommendations from these groups will be brought to the full Council for formal consideration and action, if appropriate.

DATES: The meetings will be held on Monday, April 16, 2001, and Tuesday, April 17, 2001, at 9:30 a.m. each day.

ADDRESSES: The meetings will be held at the Sheraton Ferncroft, 50 Ferncroft Road, Danvers, MA 01923; telephone: (978) 777-2500.

FOR FURTHER INFORMATION CONTACT: Paul J. Howard, Executive Director, New England Fishery Management Council; telephone: (978)465-0492.

SUPPLEMENTARY INFORMATION:

Meeting Dates and Agendas

Monday, April 16, 2001, 9:30 a.m.—Joint Groundfish Oversight Committee and Advisory Panel Meeting

The Groundfish Oversight Committee & Advisory Panel will continue development of management alternatives for Amendment 13 to the Northeast Multispecies Fishery Management Plan (FMP), which will achieve biological goals of the Amendment. The panel and committee will also consider the recommendations of the Plan Development Team (PDT). PDT options include measures that, if adopted, may reduce days-at-sea and may control latent or unused days-at-sea. The Committee will also further develop measures in the alternatives, such as developing a flexible closure system, days-at-sea counting and allocation alternatives, closed areas and other issues. The Committee may discuss recreational fishing measures. The Committee intends to present these alternatives to the Council at the May 2-3, 2001 Council meeting.

Tuesday, April 17, 2001, 9:30 a.m.—Habitat Oversight Committee Meeting

The agenda will include a discussion of habitat measures, alternatives and analyses to be included in the Groundfish FMP Amendment 13 Draft Supplemental Environmental Impact Statement. The committee will consider preliminary information on required essential fish habitat (EFH) components of proposed Skate and Red Crab FMPs. They will also review EFH consultation activities, including a proposed General Concurrence for U.S. Army Corps of Engineers Philadelphia District's Nationwide Permit Program. The Committee will review applications to the Advisory Panel in a closed session.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: March 23, 2001.
Richard W. Surdi,
Acting Director, Office of Sustainable Fisheries, National Marine Fisheries Service.

[FR Doc. 01-7682 Filed 3-28-01; 8:45 am]

BILLING CODE 3510-22-S